DEPARTMENT OF HEALTH AND HUMAN SERVICES

National Institutes of Health

National Institute of General Medical Sciences; Amended Notice of Meeting

Notice is hereby given of a change in the meeting of the National Advisory General Medical Sciences Council, May 12, 2021, 08:30 a.m. to May 13, 2021, 05:00 p.m., National Institutes of Health, Natcher Building, 45 Center Drive, Bethesda, MD, 20892 which was published in the Federal Register on December 31, 2020, 85 FR 86942.

The meeting notice is amended to change the date of the meeting from May 12-13, 2021 to May 20, 2021. The meeting is partially Closed to the public.

Dated: February 22, 2021.
Miguelina Perez,
Program Analyst, Office of Federal Advisory Committee Policy.

[FR Doc. 2021-03938 Filed 2-25-21; 8:45 am]

BILLING CODE 4140-01-P